DEPARTMENT OF THE INTERIOR

Bureau of Land Management

[LLNV952000 LF1000000.PN0000; 6100.241A; MO # 4500163655; TAS:22X]

Filing of Plats of Survey; NEVADA

AGENCY: Bureau of Land Management, Interior.

ACTION: Notice.

SUMMARY: The purpose of this notice is to inform the public and interested State and local government officials of the filing of Plats of Survey in Nevada.

DATES: Filing is applicable at 10:00 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described land was officially filed at the Bureau of Land Management (BLM) Nevada State Office, Reno, Nevada, on August 3, 2012.

The plat, in three sheets, representing the dependent resurvey of the Fourth Standard Parallel South, through Range 53 East and a portion of Range 54 East, the south and east boundaries, a portion of the subdivisional lines, and Mineral Survey Nos. 2182A and 3800, and the subdivision of section 21, Township 17 South, Range 53 East, Mount Diablo Meridian, Nevada, under Group No. 912, was accepted July 30, 2012. This survey was executed to meet certain administration needs of the Bureau of Land Management and the USDA Forest Service.

2. The Plat of Survey of the following described lands was officially filed at the Bureau of Land Management (BLM) Nevada State Office, Reno, Nevada, on September 30, 2020.

The plat, in four sheets, representing the dependent resurvey of portions of the west and north boundaries, a portion of the subdivisional lines, and a portion of the subdivision-of- section lines of section 18, and the subdivision of sections 6 and 7, and a metes-and- bounds survey in sections 6, 7, and 18, Township 19 South, Range 62 East, Mount Diablo Meridian, Nevada, under Group No. 957, was accepted September 29, 2020. This survey was executed to meet certain administrative needs of the Bureau of Land Management.

3. The Plat of Survey of the following described land lands was officially filed at the Bureau of Land Management (BLM) Nevada State Office, Reno, Nevada, on November 23, 2020.

The plat, in one sheet, representing the dependent resurvey of a portion of the subdivisional lines, and the subdivision of sections 23 and 34, Township 19 South, Range 59 East, Mount Diablo Meridian, Nevada, under Group No. 956, was accepted November 19, 2020. This survey was executed to meet certain administrative needs of the Bureau of Land Management.

4. The Plat of Survey of the following described lands was officially filed at the Bureau of Land Management (BLM) Nevada State Office, Reno, Nevada, on April 02, 2021.

The plat, in five sheets, representing the dependent resurvey of the Eighth Standard Parallel North, through Range 51 East and a portion of Range 52 East, the corrective dependent resurvey of a portion of the west boundary, and the dependent resurvey of a portion of the subdivisional lines and portions of certain mineral surveys, Township 40 North, Range 51 East, Mount Diablo Meridian, Nevada, under Group No. 876, was accepted March 29, 2021. This survey was executed to meet certain administrative needs of the Bureau of Land Management.

5. The Plat of Survey of the following described lands was officially filed at the Bureau of Land Management (BLM) Nevada State Office, Reno, Nevada, on July 08, 2021.

The plat, in one sheet, representing the dependent resurvey of a portion of the subdivisional lines and H.E.S. No. 57, Township 47 North, Range 58 East, Mount Diablo Meridian, Nevada, under Group No. 996, was accepted July 06, 2021. This survey was executed to meet certain administrative needs of the Bureau of Land Management.

6. The Plat of Survey of the following described lands was officially filed at the Bureau of Land Management (BLM) Nevada State Office, Reno, Nevada, on September 16, 2021.

The plat, in one sheet, representing the dependent resurvey of a portion of the south boundary and a portion of the subdivisional lines, and the subdivision of certain sections. Township 22 North, Range 23 East, Mount Diablo Meridian, Nevada, under Group No. 989, was accepted August 27, 2021. This survey was executed to meet certain administrative needs of the Bureau of Land Management and the Bureau of Indian Affairs.

The surveys, listed above, are now the basic record for describing the lands for all authorized purposes. These records have been placed in the open files in the BLM Nevada State Office and are available to the public as a matter of information.

Dated: June 30, 2022.
Michael O. Harmening,
Chief Cadastral Surveyor for Nevada.

[FR Doc. 2022-14363 Filed 7-5-22; 8:45 am]

BILLING CODE 4310-HC-P